DEPARTMENT OF ENERGY

Federal Energy Regulatory Commission

[Projects No. 12548-002, 12540-002, 12549-002, and 12545-002]

Hydrodynamics Inc.; Notice of Availability of Environmental Assessment

December 19, 2008.

In accordance with the National Environmental Policy Act of 1969 and the Federal Energy Regulatory Commission's (Commission) regulations, 18 CFR Part 380 (Order No. 486, 52 FR 47897), the Office of Energy Projects has reviewed the applications for original license for the proposed Greenfield Hydroelectric Project No. 12548-002, Woods Hydroelectric Project No. 12540-002, A-Drop Hydroelectric Project No. 12549-002, and Johnson Hydroelectric Project No. 12545-002, located on the Greenfields Main Canal and Greenfields South Canal in Teton and Cascade counties, Montana, and has prepared an Environmental Assessment (EA) for the projects. The projects would be located on private lands over which the U.S. Bureau of Reclamation holds a dominant easement.

The EA contains the staff's analysis of the potential environmental impacts of the projects and concludes that licensing the projects, with appropriate environmental protective measures, would not constitute a major federal action that would significantly affect the quality of the human environment.

A copy of the EA is available for review at the Commission in the Public Reference Room or may be viewed on the Commission's Web site at http://www.ferc.gov using the “eLibrary” link. Enter the docket numbers, excluding the last three digits in the docket number field, to access the document. For assistance, contact FERC Online Support at FERCOnlineSupport@ferc.gov or toll-free at 1-866-208-3676, or for TTY, (202) 502-8659.

You may also register online at http://www.ferc.gov/docs-filing/esubscription.asp to be notified via e-mail of new filings and issuances related to these or other pending projects. For assistance, contact FERC Online Support.

Any comments should be filed within 30 days from the date of this notice and should be addressed to: Kimberly D. Bose, Secretary, Federal Energy Regulatory Commission, 888 First Street, NE., Washington, DC 20426. Please affix Project Nos. 12548-002, 12540-002, 12549-002, and 12545-002 to all comments. Comments may be filed electronically via the Internet in lieu of paper. The Commission strongly encourages electronic filings. See 18 CFR 385.2001(a)(1)(iii) and the instructions on the Commission's Web site (http://www.ferc.gov) under the “e-Filing” link.

For further information, contact Dianne Rodman at (202) 502-6077.

Kimberly D. Bose,
Secretary.

[FR Doc. E8-30924 Filed 12-29-08; 8:45 am]

BILLING CODE 6717-01-P